DEPARTMENT OF THE TREASURY

Submission for OMB Review; Comment Request ATE>January 30, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 8, 2004, to be assured of consideration.

Alcohol and Tobacco Tax and Trade Bureau (TTB)

OMB Number: 1513-0091.

Recordkeeping Requirement ID Numbers: TTB REC 5210/12 and 5210/1.

Type of Review: Extension.

Title: TTB REC 5210/12: Tobacco Products Manufacturers—Notice for Tobacco Products; and TTB REC 5210/1: Records of Operations.

Description: Tobacco products manufacturers maintain a record system showing tobacco and tobacco product receipts, production and dispositions which support removals subject to tax; transfers in bond; and inventory records. These records are vital to tax enforcement.

Respondents: Business or other for-profit, farms.

Estimated Number of Recordkeepers: 108.

Estimated Burden Hours Per Recordkeeper: 1 hour.

Estimated Total Recordkeeping Burden: 1 hour.

OMB Number: 1513-0108.

Recordkeeping Requirement ID Numbers: 27 CFR 275.106, 275.110 and 275.121.

Type of Review: Extension.

Title: Recordkeeping for Tobacco products and Cigarette Papers Brought from Puerto Rico to the U.S.

Description: The prescribed records apply to persons who ship tobacco products or cigarette papers or tubes from Puerto Rico to the United States. These records verify that the amount of taxes to be paid and, if required, that the bond is sufficient to cover unpaid liabilities.

Respondents: Business or other for-profit.

Estimated Number of Recordkeepers: 4.

Estimated Burden Hours Per Recordkeeper: 1 hour.

Frequency of Response: On occasion.

Estimated Total Recordkeeping Burden: 1 hour.

Clearance Officer: William H. Foster, (202) 927-8210, Alcohol and Tobacco Tax and Trade Bureau, Room 200 East, 1310 G Street, NW., Washington, DC 20005.

OMB Reviewer: Joseph F. Lackey, Jr., (202) 395-7316, Office of Management and Budget, Room 10235, New Executive Office Building, Washington, DC 20503.

Lois K. Holland,
Treasury PRA Clearance Officer.

[FR Doc. 04-2461 Filed 2-4-04; 8:45 am]

BILLING CODE 4810-31-P